DEPARTMENT OF THE INTERIOR

National Park Service

[NPS-WASO-NAGPRA-NPS0031672; PPWOCRADN0-PCU00RP14.R50000]

Notice of Intent To Repatriate Cultural Items: Bixby Memorial Free Library, Vergennes, VT

AGENCY: National Park Service, Interior.

ACTION: Notice.

SUMMARY: The Bixby Memorial Free Library, in consultation with the appropriate Indian Tribes or Native Hawaiian organizations, has determined that the cultural items listed in this notice meet the definition of unassociated funerary objects. Lineal descendants or representatives of any Indian Tribe or Native Hawaiian organization not identified in this notice that wish to claim these cultural items should submit a written request to the Bixby Memorial Free Library. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Bixby Memorial Free Library at the address in this notice by May 12, 2021.

ADDRESSES: Patricia Reid, Bixby Memorial Free Library, 258 Main Street, Vergennes, VT 05491, telephone (802) 877-2211, email patricia.reid@bixbylibrary.org.

SUPPLEMENTARY INFORMATION: Notice is here given in accordance with the Native American Graves Protection and Repatriation Act (NAGPRA), 25 U.S.C. 3005, of the intent to repatriate cultural items under the control of the Bixby Memorial Free Library, Vergennes, VT, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Sometime before 1968, three cultural items were removed from Tennessee. In 1968, these items were given to the Bixby Memorial Free Library by Ernst Bilhuber, a Euro-American collector of Native American objects and resident of the Vergennes area. The three items are one bowl portion of a Bird Effigy Pipe (inventory number 1968.1.20), one Fish Effigy Bowl (inventory number 1968.1.134), and one Chickasaw Red Bird Effigy Footed Water Jug (inventory number 1968.1.140).

The Bird Effigy Pipe is made of brown sandstone. The pipe is carved to resemble the head of a bird, and the bowl is carved into the top of the head. A stem for smoking would have been attached to the bird's neck. The Fish Effigy Bowl is made of Mississippian grayware. The object is round with a fish head protruding from one end and fish tail protruding from the opposite side. There are also several “fins” protruding from the sides of the bowl.

The Chickasaw people have a link to the southeastern United States, including Tennessee, as documented in the Treaty of 1816. During consultation with representatives of The Chickasaw Nation, the three objects listed in this notice were recognized by the Chickasaw team as funerary in nature, and similar to previously repatriated associated funerary objects that had been removed from ancestral burials in their homelands, which encompass the Tennessee area. Consequently, the Bixby Memorial Free Library has determined that a relationship of shared group identity can reasonably be traced between The Chickasaw Nation and the Muskogean linguistic cultures connected with the items listed in this notice.

Determinations Made by the Bixby Memorial Free Library

Officials of the Bixby Memorial Free Library have determined that:

• Pursuant to 25 U.S.C. 3001(3)(B), the three cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and The Chickasaw Nation.

Additional Requestors and Disposition

Lineal descendants or representatives of any Indian Tribe or Native Hawaiian organization not identified in this notice that wish to claim these cultural items should submit a written request with information in support of the claim to Patricia Reid, Bixby Memorial Free Library, 258 Main Street, Vergennes, VT 05491, telephone (802) 877-2211, email patricia.reid@bixbylibrary.org, by May 12, 2021. After that date, if no additional claimants have come forward, transfer of control of the unassociated funerary objects to The Chickasaw Nation may proceed.

The Bixby Memorial Free Library is responsible for notifying The Chickasaw Nation that this notice has been published.

Dated: March 26, 2021.
Melanie O'Brien,
Manager, National NAGPRA Program.

[FR Doc. 2021-07407 Filed 4-9-21; 8:45 am]

BILLING CODE 4312-52-P